DEPARTMENT OF THE TREASURY

Internal Revenue Service

26 CFR Part 1

[TD 9885]

RIN 1545-BO56

Base Erosion and Anti-Abuse Tax; Correcting Amendment

AGENCY: Internal Revenue Service (IRS), Treasury.

ACTION: Correcting amendments.

SUMMARY: This document contains corrections to final regulations (TD 9885) that were published in the Federal Register on Friday, December 6, 2019. The final regulations implementing the base erosion and anti-abuse tax, designed to prevent the reduction of tax liability by certain large corporate taxpayers through certain payments made to foreign related parties and certain tax credits.

DATES:

Effective date: The final regulations are effective on August 14, 2020.

Applicability date: December 6, 2019.

FOR FURTHER INFORMATION CONTACT: Sarah Hoyt at (202) 317-6848 or Julie Wang at (202) 317-6975 (not a toll-free number).

SUPPLEMENTARY INFORMATION:

Background

The final regulations (TD 9885) that are the subject of this correction are issued under § 1.1.502-59A of the Internal Revenue Code.

Need for Correction

As published, December 6, 2019 (84 FR 66968) the final regulations (TD 9885; FR DOC. 2019-25744) contains an error that needs to be corrected.

List of Subjects in 26 CFR Part 1

Income taxes, Reporting and recordkeeping requirements.

Correction of Publication

Accordingly, 26 CFR part 1 is corrected by making the following correcting amendments:

PART 1—INCOME TAXES

Paragraph 1. The authority citation for part 1 continues to read in part as follows:

Authority: 26 U.S.C. 7805 * * *

§ 1.1.502-59A [Transferred]

Par. 2. Section 1.1502-59A is amended by transferring the section underneath the undesignated heading “Special Taxes and Taxpayers” and following § 1.1502-55.

* * * * *

Martin V. Franks,
Chief, Publications and Regulations Branch, Legal Processing Division, Associate Chief Counsel (Procedure and Administration).

[FR Doc. 2020-16383 Filed 8-13-20; 8:45 am]

BILLING CODE 4830-01-P